DEPARTMENT OF ENERGY

Federal Energy Regulatory Commission

[Docket No. GT02-16-000]

Sabine Pipe Line LLC; Notice of Proposed Changes in FERC Gas Tariff

April 18, 2002.

Take notice that on April 12, 2002, Sabine Pipe Line LLC (Sabine) tendered for filing as part of its FERC Gas Tariff, Original Volume No. 1, the following revised tariff sheets to be effective May 12, 2002:

First Revised Sheet No. 000

First Revised Sheet No. 222

First Revised Sheet No. 289

First Revised Sheet No. 405

First Revised Sheet No. 406

First Revised Sheet No. 445

First Revised Sheet No. 446

First Revised Sheet No. 472

First Revised Sheet No. 473

Sabine states that the revised tariff sheets were filed to amend the business address of Sabine as well as contact names and information.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-10004 Filed 4-23-02; 8:45 am]

BILLING CODE 6717-01-P